ENVIRONMENTAL PROTECTION AGENCY

[EPA-HQ-OECA-2005-0051; FRL-8200-9]

Agency Information Collection Activities; Submission to OMB for Review and Approval; Comment Request; NESHAP for Asphalt Processing and Asphalt Roofing Manufacturing (Renewal), EPA ICR Number 2029.03, OMB Control Number 2060-0520

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the collection and the estimated burden and cost.

DATES: Additional comments may be submitted on or before August 21, 2006.

ADDRESSES: Submit your comments, referencing docket ID number EPA-HQ-OECA-2005-0051, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments. Any additional comments on this ICR should be submitted to EPA and OMB within 30 days of this notice.

EPA has established a public docket for this ICR under docket ID number EPA-HQ-OECA-2005-0051, which is available for online viewing at http://www.regulations.gov, or in person viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for Asphalt Processing and Asphalt Roofing Manufacturing (Renewal).

ICR Numbers: EPA ICR Number 2029.03, OMB Control Number 2060-0520.

ICR Status: This ICR is scheduled to expire on August 31, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for NESHAP for Asphalt Processing and Asphalt Roofing Manufacturing were proposed on January 10, 1989, and promulgated on November 20, 1990 (55 FR 48414). These standards apply to new and existing facilities that manufacture asphalt roofing products or oxidized asphalt that are major sources of hazardous air pollutants (HAPs), or are collocated at major sources. This information is being collected to assure compliance with 40 CFR part 63, subpart LLLLL.

Owners and operators of affected sources are subject to the monitoring, recordkeeping and reporting requirements of 40 CFR part 63, subpart A, the General Provisions, unless specified otherwise in the regulation. This rule requires sources to submit initial notifications, conduct performance tests if the source is using an add-on control device, and submit periodic compliance reports. In addition, sources are required to maintain records of the occurrence and duration of any startup, shutdown, or malfunction in the operation if using an add-on control device; any period during which the monitoring system is inoperative; parametric monitoring data; system maintenance and calibration; and work practices to demonstrate initial and ongoing compliance with the regulation. Records of such measurements and actions are to be retained two years on-site of the required total five years. All reports are sent to the delegated state or local authority. In the event that there is no such delegated authority, the reports are sent directly to the EPA regional office.

Burden Statement: The annual public reporting and recordkeeping burden for this collection of information is estimated to average 223 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of facilities that manufacture asphalt roofing products or oxidized asphalt.

Estimated Number of Respondents: 24.

Frequency of Response: On occasion, semiannually, and initially.

Estimated Total Annual Hour Burden: 12,017.

Estimated Total Annual Cost: $25,407, includes O&M costs only.

Changes in the Estimates: The increase from 1,962 hours to 12,017 hours in the annual labor burden to industry from the most recently approved ICR is due to adjustments. The increase in burden from the most recently approved ICR is due to an increase from 19 to 22 in the number of existing sources and the assumption that all existing sources are in full compliance with the rule's initial and on-going requirements since the compliance date has passed, May 1, 2006. All respondents are currently recording operating parameters and submitting semiannual compliance reports to comply with rule requirement compared to only new respondents in the active ICR.

The decrease from $277,684 to $25,407 in the total annualized capital and operations and maintenance (O&M) costs is due to no startup capital costs being attributed to this rule since monitors are an integral part of the control equipment necessary to determine if it is operating properly, and a decrease in the contractor's costs associated with performance tests based on the assumption that all existing respondents are in full compliance with the rule requirements.

Dated: July 11, 2006.
Sara Hisel McCoy,
Acting Director, Collection Strategies Division.

[FR Doc. E6-11525 Filed 7-19-06; 8:45 am]

BILLING CODE 6560-50-P